DEPARTMENT OF ENERGY

Federal Energy Regulatory Commission

[Docket No. RP03-219-000]

Discovery Gas Transmission LLC; Notice of Tariff Filing

December 31, 2002.

Take notice that on December 26, 2002, Discovery Gas Transmission LLC (Discovery) tendered for filing tendered for filing as part of its FERC Gas Tariff, Original Volume No. 1, the following revised tariff sheets, to be effective February 1, 2003:

Fourth Revised Sheet No. 20

Second Revised Sheet No. 114

Fourth Revised Sheet No. 151

Third Revised Sheet No. 152

First Revised Sheet No. 152A

Fourth Revised Sheet No. 154

Fourth Revised Sheet No. 155

Third Revised Sheet No. 169

First Revised Sheet No. 169A

First Revised Sheet No. 186

Discovery states that this filing is made in part for administrative purposes and in part as a housekeeping matter to clarify, update and clean up several items in Discovery's tariff.

Discovery further states that copies of the filing have been mailed to each of its customers, interested State Commissions and other interested persons.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Intervention Date: January 7, 2003.

Linwood A. Watson, Jr.,
Deputy Secretary.

[FR Doc. 03-248 Filed 1-3-03; 8:45 am]

BILLING CODE 6717-01-P